DEPARTMENT OF ENERGY

Federal Energy Regulatory Commission

[Docket No. RM95-9-013]

Open Access Same-Time Information System and Standards of Conduct

Issued August 1, 2000.

AGENCY: Federal Energy Regulatory Commission (Commission).

ACTION: Order seeking comments on proposed changes to “Business Practice Standards for OASIS Transactions” (BPS Document).

SUMMARY: The Commission is considering revising the BPS Document adopted by the Commission on February 25, 2000 in Open Access Same-Time Information System and Standards of Conduct, Order No. 638, FERC Stats. & Regs. ¶ 31,093 (2000). The Commission invites comments on these proposed revisions.

DATES: Written comments (an original and 14 paper copies) must be received by September 11, 2000. In addition, the Commission encourages the filing of a copy of the comments on computer diskette or by E-Mail to “comment.rm@ferc.fed.us” by the same date.

ADDRESSES: Copies of the BPS Document are available at the Office of the Secretary, Federal Energy Regulatory Commission, 888 First Street, NE., Washington, DC 20426. E-Mail address: “comment.rm@ferc.fed.us”.

FOR FURTHER INFORMATION CONTACT:

Marvin Rosenberg (Technical Information), Office of Markets, Tariffs, and Rates, Federal Energy Regulatory Commission, 888 First Street, NE., Washington, DC 20426, (202) 208-1283.

Paul Robb (Technical Information), Office of Markets, Tariffs, and Rates, Federal Energy Regulatory Commission, 888 First Street, NE., Washington, DC 20426, (202) 219-2702.

Gary D. Cohen (Legal Information), Office of the General Counsel, Federal Energy Regulatory Commission, 888 First Street, NE., Washington, DC 20426, (202) 208-0321.

SUPPLEMENTARY INFORMATION:

Before Commissioners: James J. Hoecker, Chairman; William L. Massey, Linda Breathitt, and Curt Hubert, Jr.

Order Seeking Comments on Proposed Changes to “Business Practice Standards for Oasis Transactions”

I. Introduction

The Commission is considering making revisions to the “Business Practice Standards for OASIS Transactions” (BPS) adopted by the Commission on February 25, 2000 in Open Access Same-Time Information System and Standards of Conduct, Order No. 638, FERC Stats. & Regs. ¶ 31,093 (2000) to reflect, with minor edits by the Commission, suggested revisions jointly recommended by the OASIS How Working Group (How Group) and the Market Interface Committee (MIC) (jointly MIC/How Groups). We, therefore, are inviting comments on these suggested changes, as edited by the Commission. We intend to issue a revised BPS document, after a review of any comments filed, unless persuaded otherwise.

II. Background

In Order No. 638, the Commission adopted a set of uniform business practices (i.e., the BPS), implementing the Commission's policies on transmission service price negotiations and on improving interactions between transmission providers and customers over Open Access Same-Time Information System (OASIS) sites. Order No. 638 also contained a number of requests to the MIC/How Groups,¹ including a request that the MIC/How Groups submit a report to the Commission, by June 29, 2000,² providing recommendations for revisions to the BPS to reflect the Commission's findings in North American Electric Reliability Council, 89 FERC ¶ 61,277 (1999) (Next Hour Order), reconsideration denied, 92 FERC ¶ 61,012 (2000), and to consider specified changes related to the State Diagram.³

¹ See Order No. 638, FERC Stats. & Regs. ¶ 31,093 at 31,448-49.

² Ninety days from March 31, 2000, the date of publication of Order No. 638 in the Federal Register.

³ See section 4.2.10.2 of the OASIS Standards and Communication Protocols Document (S&CP Document).

On June 16, 2000, the MIC/How Groups jointly submitted for Commission consideration recommended revisions to the BPS. In this order, we are inviting comment on whether the Commission should adopt the recommended revisions to the BPS suggested by the MIC/How Group, as edited by the Commission (these edits are discussed below).

III. Discussion

In response to our request in Order No. 638, the June 16, 2000 submittal recommends a series of minor revisions to the BPS,⁴ including: (1) Revised definitions of the scheduling period for “same-day” and “next-hour” transactions in BPS section 2.6.1; (2) designation in Table 1-1 of Next Hour Market Service (NHM Service) as a standard product (leaving the definition of this product to each transmission provider's Open Access Transmission Tariff); (3) revisions to Tables 4-2 and 4-3 and related provisions to reflect the availability of NHM Service and its priority vis a vis other transmission services; (4) revisions to Standards 4.8, 4.17, 5.4, and addition of a new Standard 4.2.7, to reflect recommended clarifications of applicable comment fields; (5) revisions to Standards 3.3, 3.6, 4.1, 4.13, 4.15, 4.20, 4.24, 4.25, and 5.5 (by changing the word “should” to “shall” to reflect that these standards were made mandatory in Order No. 638; and (6) the addition of a new section 7, providing 16 new business practices covering NHM Service.⁵

⁴ The MIC/How Groups have suggested revisions to the following BPS Sections, Standards, and Tables: Section 2.1; Standard 2.1; Standard 2.1.14; Standard 2.6.1; Standard 2.6.2; Standard 3.6; Standard 4.1; Standard 4.8; Standard 4.13; Notes to Table 4-2; Standard 4.14; Standard 4.15; Table 4-3; Standard 4.17; Standard 4.20; Standard 4.24; Standard 4.25; Standard 4.27; Standard 5.4; Standard 5.5; and a new Section 7 with 16 new standards (Standards 7.1-7.16).

⁵ The business practices recommended in Section 7 would define NHM Service and list it as a voluntary service that, if provided, must be provided in accordance with Standards 7.1-7.16. Among other matters, these standards set the time limits for such transactions, require North American Electric Reliability Council (NERC) electronic tags (ETAGS) for reserving and designating such service, and discuss procedures for reserving such service, identifying path segments, and curtailing such service.

The MIC/How Group also points out that, for clarity, Table 1-1 should be redesignated as Table 2-1. Finally, the MIC/How Group suggests changes to the S&CP Document and Data Element Dictionary that we will address separately when we consider making further revisions to those documents.

We appreciate the ongoing efforts of the MIC/How Groups to voluntarily address the Commission's questions and to try to reach consensus on these issues. Subject to our review of any comments that are filed in response to this Order, we propose to adopt the revisions to the BPS as recommended by the MIC/How Groups, with the exceptions discussed below. First, the MIC/How Groups' proposed Section 7.2 states:

Standard 7.2: A transmission provider offering NHM Service shall allow an eligible transmission customer to request a NHM Service reservation electronically using protocols compliant with NERC ETAG Specification 1.6 or later.

We will revise this standard to delete the words “or later” from the end of the sentence. The Commission is reluctant to approve future business practices before they are developed. Although we find NERC's current ETAG procedures acceptable, see, e.g., Allegheny Energy Service Corporation, 91 FERC ¶ 61,044 at 61,160-61 (2000), we reserve judgment on any revised ETAG specifications that may be developed in the future.

Second, we also will correct two typographical errors in the recommended BPS, Version 1.2. First, we will correct the spelling of “http” in the reference to the TSIN Website in Standard 3.2. Second, we will remove, as redundant, the word “set” that follows the word “consider” in the first sentence of Standard 7.5. Thus, this phrase would read “[a] transmission provider offering NHM Service shall consider the amount . . .”

Subject to our review of any comments filed in response to this order, we intend to adopt a revised BPS Document, Version 1.2.⁶

⁶ For clarity, the BPS Document uses redline and strikeout fonts to highlight differences between BPS Version 1.1 (the version adopted in Order No. 638) and Version 1.2 (the version proposed in this order). Copies of the BPS Document are available at an address under ADDRESSES.

IV. Public Comment Procedure

This order explains our intention to make certain technical revisions to the BPS. Prior to taking final action on this proposal, we are inviting comments from interested persons on the proposals discussed in this order. The Commission invites interested persons to submit written comments on the proposed revisions to the BPS described in this order, including any related matters or alternative proposals that commenters may wish to discuss.

The original and 14 copies of such comments must be received by the Commission by September 11, 2000. Comments should be submitted to the Office of the Secretary, Federal Energy Regulatory Commission, 888 First Street, NE., Washington DC 20426 and should refer to Docket No. RM95-9-013.

In addition to filing paper copies, the Commission encourages the filing of comments either on computer diskette or via Internet E-Mail. Comments may be filed in the following formats: WordPerfect 8.0 or lower version, MS Word Office 97 or lower version, or ASCII format.

For diskette filing, include the following information on the diskette label: Docket No. RM95-9-013; the name of the filing entity; the software and version used to create the file; and the name and telephone number of a contact person.

For Internet E-Mail submittal, comments should be submitted to “comment.rm@ferc.fed.us” in the following format. On the subject line, specify Docket No. RM95-9-013. In the body of the E-Mail message, include the name of the filing entity; the software and version used to create the file, and the name and telephone number of the contact person. Attach the comment to the E-Mail in one of the formats specified above. The Commission will send an automatic acknowledgment to the sender's E-Mail address upon receipt. Questions on electronic filing should be directed to Brooks Carter by telephone at 202-501-8145 or by E-Mail (to brooks.carter@ferc.fed.us).

Commenters should take note that, until the Commission amends its rules and regulations, the paper copy of the filing remains the official copy of the document submitted. Therefore, any discrepancies between the paper filing and the electronic filing or the diskette will be resolved by reference to the paper filing.

The Commission Orders

Interested persons may file comments on the proposed revisions to the “Business Practice Standards for OASIS Transactions” (BPS) within thirty (30) days of the date of publication of this order in the Federal Register, as discussed in the body of this order.

By the Commission.
David P. Boergers,
Secretary.

[FR Doc. 00-19975 Filed 8-9-00; 8:45 am]

BILLING CODE 6717-01-P